DEPARTMENT OF COMMERCE

International Trade Administration

[Application No. 87-9A001]

Export Trade Certificate of Review

ACTION: Notice of Issuance of an Amended Export Trade Certificate of Review to Independent Film & Television Alliance, Application no. 89-9A001.

SUMMARY: The U.S. Department of Commerce issued an amended Export Trade Certificate of Review to Independent Film and Television Alliance (“IFTA”) on December 20, 2013.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. The regulations implementing Title III are found at 15 CFR Part 325 (2013). The U.S. Department of Commerce, International Trade Administration, Trade of Trade and Economic Analysis (“OTEA”) is issuing this notice pursuant to 15 CFR 325.6(b), which requires the Secretary of Commerce to publish a summary of the issuance in the Federal Register. Under Section 305(a) of the Export Trading Company Act (15 U.S.C. 4012(b)(1)) and 15 CFR § 325.11(a), any person aggrieved by the Secretary's determination may, within 30 days of the date of this notice, bring an action in any appropriate district court of the United States to set aside the determination on the ground that the determination is erroneous.

Description of Certified Conduct

IFTA Export Trade Certificate of Review has been amended to:

1. Add the following companies as new Members of IFTA's Certificate: Altitude Film Entertainment Limited (London, United Kingdom), Archstone Distribution, LLC (Los Angeles, CA), Artis Films Romania (Bucharest, Romania), Bos Entertainment, Inc., d/b/a The Exchange (Los Angeles, CA), Callister Technology and Entertainment LLC d/b/a Garden Thieves Pictures (Washington, DC), Corsan NV(Antwerp, Belgium), DARO Film Distribution GmbH (Monte Carlo, Monaco), Embankment Films Limited (London, United Kingdom), EntertainME US LLC (Hollywood, CA), Entertainment One (Toronto, Ontario, Canada), Exclusive Films International, Limited (Beverly Hills, CA), Filmnation Entertainment (Los Angeles, CA), Fortune Star Media Limited (Kowloon, Hong Kong), GFM Films (London, United Kingdom), Global Asylum, The (Burbank, CA), Gold Lion Films (Los Angeles, CA), Hasbro, Inc. (Burbank, CA), HBO Enterprises (New York, NY), Highland Film Group LLC (West Hollywood, CA), Huayi Brothers Media Corporation (Beijing, China), Hyde Park International (Sherman Oaks, CA), KSM GmbH (Wiesbaden, Germany), Lotte Entertainment (Seoul, South Korea), Mega-Vision Pictures Limited (Kowloon, Hong Kong), MICA Entertainment, LLC (Century City, CA), Mission Pictures International, LLC (Van Nuys, CA), Mister Smith Entertainment Limited (London, United Kingdom), MonteCristo International Entertainment, LLC (Los Angeles, CA), Multicom Entertainment Group, Inc. (Los Angeles, CA), Premiere Entertainment Group, LLC (Encino, CA), Protagonist Pictures Limited (London, United Kingdom), Reel One Entertainment, Inc. (Beverly Hills, CA), Regal Media International (Wanchai, Hong Kong), Relativity Media, LLC (Beverly Hills, CA), Shine International (London, United Kingdom), Sierra/Affinity (Los Angeles, CA), Six Sales Entertainment Group S.L. (Madrid, Spain), Studio City Pictures, Inc. (Studio City, CA), Taylor & Dodge, LLC (Los Angeles, CA), uConnect Films Ltd. (London, United Kingdom), and Vision Music, Inc. (Los Angeles, CA).

2. Remove the following companies as Members of ITFA's Certificate: 111 Pictures Ltd., Action Concept Film und Stuntproduction GmbH, Adriana Chiesa Enterprises SRL, Alain Siritzky Productions (ASP), Alpine Pictures, Inc., American World Pictures, Bold Films L.P., Brainstorm Media, Brightlight Pictures Inc., Capitol Films Limited, Cinamour Entertainment, Cinemavault Releasing, Cinesavvy Inc., Continental Entertainment Capital, DeAPlaneta, Essential Entertainment, Fidec, Film Department (The), First California Bank, Fremantle Corporation (The), GreeneStreet Films, HandMade Films International, ICB Entertainment Finance, Icon Entertainment International, IFD Film & Arts, Ltd., Imagi Studios, Insight Film Releasing Ltd., International Keystone Entertainment, ITN Distribution, Inc., Keller Entertainment Group, Inc., Liberation Entertainment, Inc., Maverick Global, a division of Maverick Entertainment Group, Inc., Media 8 Entertainment, Media Luna Entertainment, Neoclassics Films Ltd., NonStop Sales AB, North by Northwest Entertainment, Oasis International, Odd Lot International, Omega Entertainment, Ltd., Paramount Vantage International, Park Entertainment Ltd., Passport International Entertainment, LLC, Peace Arch Entertainment, Promark/Zenpix, Quantum Releasing LLC, Regent Worldwide Sales LLC, Safir Films, Ltd., Sobini Films, Stevens Entertainment Group, Summit Entertainment, Tandem Communications, Taurus Entertainment Company, U.S. Bank, UGC International, Union Bank of California, Wachovia Bank, Yari Film Group, and York International.

3. Change the names of the following Members: 2929 International, LLC of Santa Monica, CA is now 2929 International, American Cinema International of Van Nuys, CA is now American Cinema International Inc., UK Film Council of London, United Kingdom is now BFI- British Film Institute, Filmax Pictures of Barcelona, Spain is now Castelao Pictures, CJ Entertainment Inc of Seoul, Korea is now CJ E&M Corporation, Classic Media, Inc. of New York, NY is now Classic Media, LLC, ContentFilm International of London, United Kingdom is now Content Media Corporation International Limited, Crystal Sky Worldwide Sales LLC of Los Angeles, CA is now Crystal Sky LLC, Ealing Studios International of London, United Kingdom is now Ealing Metro International, Echo Bridge Entertainment of Needham, MA is now Echo Bridge Entertainment LLC, Emperor Motion Pictures of Wanchai, Hong Kong is now Emperor Motion Picture Enterprise Limited, Boll AG of Vancouver, British Columbia, Canada is now Event Film Distribution, Fabrication Films of Los Angeles, CA is now Fabrication Films International LLC, Freeway Entertainment Group Ltd of Budapest, Hungary is now Freeway Entertainment Group BV, Fremantlemedia Enterprises of London, United Kingdom is now FremantleMedia Limited, GK Films, LLC of Santa Monica, CA is now GK Films, Telepool GmbH of Munich, Germany is now Global Screen GmbH, Goldcrest Films International Ltd of London, UK is now Goldcrest Films International, Green Communications of Los Angeles, CA is now Green Films, Inc., Hanway Films of London, UK is now Hanway Films Ltd., Intandem Films of London, UK is now Intandem Films Plc, K5 International of Munich, Germany is now K5 Media Group GmbH, MarVista Entertainment of Los Angeles, CA is now Mar Vista Entertainment, LLC, Miramax Films of Santa Monica, CA is now Miramax International, Moonstone Entertainment of Studio City, CA is now Moonstone Entertainment, Inc., the entity d/b/a Mainline Releasing of Santa Monica, CA is now MRG Entertainment, Inc., New Line Cinema of Burbank, CA is now New Line Cinema Corporation, Nu Image of Los Angeles, CA is now Nu Image, Inc., Pueblo Film Group of Zurich, Switzerland is now Pueblo Film Group of Companies, Film Finance Corporation Australia of Woolloomooloo, Australia is now Screen Australia, RHI Entertainment Distribution, LLC of New York, NY is now Sonar International Distribution, Inc., Hollywood Wizard of Brighton, United Kingdom is now Stealth Media Group Limited, UFO International Productions of Sherman Oaks, CA is now UFO International Productions, LLC, and Works International, The of London, United Kingdom is now Works, The.

IFTA's amendment of its Export Trade Certificate of Review results in the following membership list:

2929 International, Santa Monica, CA

Alfred Haber Distribution, Inc., Palisades Park, NJ

Altitude Film Entertainment Limited, London, United Kingdom

American Cinema International Inc., Van Nuys, CA

Archstone Distribution, LLC, Los Angeles, CA

Arclight Films Pty Ltd., Moore Park, Australia

Artis Films Romania, Bucharest, Romania

Artist View Entertainment, Inc., Studio City, CA

Atlas International Film GmbH, Munich, Germany

Atrium Productions KFT, Budapest, Hungary

AV Pictures, Ltd., London, United Kingdom

BFI-British Film Institute, London, United Kingdom

Bleiberg Entertainment, Beverly Hills, CA

Blue Galaxy International, LLC, Sherman Oaks, CA

Bos Entertainment, Inc. (dba The Exchange), Los Angeles, CA

Callister Technology and Entertainment LLC (dba Garden Thieves Pictures), Washington, DC

Castelao Pictures, Barcelona, Spain

Cinema Arts Entertainment, Los Angeles, CA

Cinema Management Group, Beverly Hills, CA

CineTel Films, Inc., Los Angeles, CA

City National Bank, Beverly Hills, CA

CJ E&M Corporation, Seoul, S. Korea

Classic Media, LLC, New York, NY

Comerica Entertainment Group, Los Angeles, CA

Content Media Corporation International Limited, London, United Kingdom

Cori Distribution Group, London, United Kingdom

Corsan NV, Antwerp, Belgium

Crystal Sky LLC, Los Angeles, CA

Curb Entertainment International Corporation, Burbank, CA

Daro Film Distribution GmbH, Monte Carlo, Monaco

Distant Horizon, Stanmore, Middlesex, United Kingdom

Distribution Workshop, Kowloon Tong, Hong Kong

Ealing Metro International, London, United Kingdom

Echo Bridge Entertainment LLC, Needham, MA

Embankment Films Limited, London, United Kingdom

Emperor Motion Picture Enterprise Limited, Wanchai, Hong Kong

EntertainME US LLC, Hollywood, CA

Entertainment One, Toronto, Canada

Epic Pictures Group, Inc., Beverly Hills, CA

EuropaCorp, Saint Denis Cedex, France

Event Film Distribution, British Columbia, Canada

Exclusive Films International, Limited, Beverly Hills, CA

Fabrication Films International LLC, Los Angeles, CA

Film Finances, Inc., Los Angeles, CA

Filmexport Group SRL, Rome, Italy

Filmnation Entertainment, New York, NY

Fintage House, Leiden, Netherlands

Focus Features, New York, NY

Foresight Unlimited, Bel Air, CA

Fortissimo Film Sales, Amsterdam, Netherlands

Fortune Star Media Limited, Kowloon, Hong Kong

Freeway Entertainment Group BV, Budapest, Hungary

FremantleMedia Limited, London, United Kingdom

Gaiam Americas, Inc., New York, NY

Gaumont, Neuilly-sur-Seine, France

GFM Films, London, United Kingdom

GK Films, Santa Monica, CA

Global Asylum (The), Burbank, CA

Global Screen GmbH, Munich, Germany

Gold Lion Films, Los Angeles, CA

Goldcrest Films International, London, United Kingdom

Golden Network Asia Limited, Kwun Tong, Hong Kong

Green Films, Inc., Los Angeles, CA

Hanway Films Ltd., London, United Kingdom

Harmony Gold U.S.A., Inc., Los Angeles, CA

Hasbro, Inc., Burbank, CA

HBO Enterprises, New York, NY

Highland Film Group LLC, West Hollywood, CA

Huayi Brothers Media Corporation, Beijing, China

Hyde Park International, Sherman Oaks, CA

IFM World Releasing, Inc., Glendale, CA

IM Global, Los Angeles, CA

Imageworks Entertainment International, Inc., Woodland Hills, CA

Imagination Worldwide, LLC, Beverly Hills, CA

Independent Film Sales, London, United Kingdom

Intandem Films Plc, London, United Kingdom

K5 Media Group GmbH, Munich, Germany

Kathy Morgan International (KMI), Los Angeles, CA

Kimmel International, Beverly Hills, CA

Koan, Inc., Park City, UT

KSM GmbH, Wiesbaden, Germany

Lakeshore Entertainment Group, LLC, Beverly Hills, CA

Lionsgate, Santa Monica, CA

Little Film Company (The), Studio City, CA

Lotte Entertainment, Seoul, South Korea

Mar Vista Entertainment, LLC, Los Angeles, CA

Media Asia Distribution Ltd., Hong Kong

Mega-Vision Pictures Limited, Kowloon, Hong Kong

MICA Entertainment, LLC, Century City, CA

Miramax International, Santa Monica, CA

Mission Pictures International, LLC, Van Nuys, CA

Mister Smith Entertainment Limited, London, United Kingdom

MonteCristo International Entertainment, LLC, Los Angeles, CA

Moonstone Entertainment, Inc., Studio City, CA

Morgan Creek International, Inc., Los Angeles, CA

Motion Picture Corporation of America, Los Angeles, CA

Moviehouse Entertainment, London, United Kingdom

MRG Entertainment, Inc., Santa Monica, CA

Multicom Entertainment Group, Inc., Los Angeles, CA

Myriad Pictures, Santa Monica, CA

New Films International, Sherman Oaks, CA

New Horizons Picture Corp., Los Angeles, CA

New Line Cinema Corporation, Burbank, CA

New Zealand Film Commission, Wellington, New Zealand

Nordisk Film A/S, Copenhagen, Denmark

Nu Image, Inc., Los Angeles, CA

Pathe Distribution, Paris, France

Premiere Entertainment Group, LLC, Encino, CA

Protagonist Pictures Limited, London, United Kingdom

Pueblo Film Group of Companies, Zurich, Switzerland

QED International, Los Angeles, CA

Reel One Entertainment, Inc., Beverly Hills, CA

Regal Media International, Wanchai, Hong Kong

Relativity Media, LLC, Beverly Hills, CA

Screen Australia, Woolloomooloo, Australia

Screen Capital International Corp., Beverly Hills, CA

Screen Media Ventures, LLC, New York, NY

Shine International, London, United Kingdom

Showcase Entertainment, Inc., Calabasas, CA

Sierra/Affinity, Beverly Hills, CA

Six Sales Entertainment Group S.L., Madrid, Spain

SND, Neuilly sur Seine, France

Sonar International Distribution, Inc., New York, NY

Spotlight Pictures, LLC, Hollywood, CA

Starz Media, Beverly Hills, CA

Stealth Media Group Limited, Brighton, United Kingdom

Studio City Pictures, Inc., Studio City, CA

StudioCanal, Issy Les Moulineaux, France

Svensk Filmindustri, AB, Stockholm, Sweden

Taylor & Dodge, LLC, Los Angeles, CA

TF1 International, Boulogne Billancourt, France

Troma Entertainment, Inc., Long Island City, NY

uConnect Films Ltd., London, United Kingdom

UFO International Productions, LLC, Sherman Oaks, CA

Vision Films, Inc., Sherman Oaks, CA

Vision Music, Inc., Los Angeles, CA

Voltage Pictures, Los Angeles, CA

Weinstein Company (The), New York, NY

Wild Bunch, Paris, France

Works, (The), London, United Kingdom

Worldwide Film Entertainment, LLC, Los Angeles, CA

Dated: December 23, 2013.
Joseph E. Flynn,
Office Director, Office of Trade and Economic Analysis.

[FR Doc. 2013-31141 Filed 12-26-13; 8:45 am]

BILLING CODE 3510-DR- P